DEPARTMENT OF THE INTERIOR

Fish and Wildlife Service

[FWS-R4-R-2014-N198; FXRS12650400000S3-123-FF04R02000]

Cat Island National Wildlife Refuge, Louisiana; Draft Comprehensive Conservation Plan and Environmental Assessment

AGENCY: Fish and Wildlife Service, Interior.

ACTION: Notice of availability; request for comments.

SUMMARY: We, the Fish and Wildlife Service (Service), announce the availability of a “Draft Comprehensive Conservation Plan and Environmental Assessment (Draft CCP/EA) for Cat Island National Wildlife Refuge in West Feliciana Parish, Louisiana, for public review and comment. In this Draft CCP/EA, we describe the alternative we propose to use to manage this refuge for the 15 years following approval of the final CCP.

DATES: To ensure consideration, we must receive your written comments by June 1, 2015.

ADDRESSES: You may obtain a copy of the Draft CCP/EA by contacting Kent Ozment, Wildlife Refuge Specialist, U.S. Fish and Wildlife Service, Lower Mississippi River Refuge Complex, 21 Pintail Ln. 89, Natchez, MS 39165. Alternatively, you may download the document from our Internet site at http://southeast.fws.gov/planning under “Draft CCP Documents.” Comments on the Draft CCP/EA may be submitted to the above postal address or by email to Kent Ozment at Kent_Ozment@fws.gov.

FOR FURTHER INFORMATION CONTACT: Kent Ozment, Natural Resource Planner, (601) 442-6696 or Kent_Ozment@fws.gov.

SUPPLEMENTARY INFORMATION: With this notice, we continue the CCP process for Cat Island National Wildlife Refuge (NWR) started through a notice in the Federal Register on October 22, 2013 (78 FR 62648). For more about the refuge and our CCP process, please see that notice.

Cat Island National Wildlife Refuge was established in October 2000, as the 526th refuge in the National Wildlife Refuge System. It is located in West Feliciana Parish, Louisiana, near the town of St. Francisville, 25 miles north of Baton Rouge. The refuge currently encompasses 10,473 acres of bottomland hardwood forest, baldcypress-tupelo swamp, and shrub-scrub swamps. The Congressionally approved acquisition boundary encloses 36,500 acres.

Cat Island NWR is part of the Lower Mississippi River Ecosystem and is located on the southeastern edge of the Mississippi Alluvial Valley (MAV) Bird Conservation Region, which is incorporated into the Gulf Coastal Plans and Ozarks Landscape Conservation Cooperative. The refuge provides high-quality habitat for many species of waterfowl, wading birds, Neotropical migratory songbirds, and resident game and fish, as well as threatened and endangered species and species of concern. The refuge contains a number of relict old-growth baldcypress trees, including the world's largest known individual of this species.

Background

The CCP Process

The National Wildlife Refuge System Improvement Act of 1997 (Improvement Act), requires us to develop a CCP for each national wildlife refuge. CCPs are developed to provide refuge managers with a 15-year plan for achieving refuge purposes and contributing toward the mission of the National Wildlife Refuge System consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Priority resource issues addressed in the Draft CCP/EA include: Fish and Wildlife Population Management, Habitat Management, Resource Protection, Visitor Services, and Refuge Administration.

CCP Alternatives, Including Our Proposed Alternative (B)

We developed three alternatives for managing the refuge (Alternatives A, B, and C), with Alternative B as our proposed alternative. A full description of each alternative is in the Draft CCP/EA. We summarize each alternative below.

Alternative A: Current Management (No Action)

Under alternative A, Cat Island NWR would be managed as it has been in recent years. No new actions would be taken to manage Cat Island NWR, or improve or otherwise change the refuge's habitats, wildlife, or public use. Programs that have been ongoing in the past would continue. Certain monitoring activities would continue, including periodic migratory bird surveys. Maintenance of roads and public-use facilities would continue as presently conducted. Habitats would continue to be mostly passively managed, with actions taken only to provide for public safety or to avoid or mitigate damage to refuge resources. Current partnerships with the West Feliciana Parish Tourist Commission, Louisiana Hiking Club, Louisiana Department of Wildlife and Fisheries, and others would continue as before. The refuge hunting, fishing, and non-consumptive uses would continue as presently constituted. Legal requirements for protection of natural and cultural resources would continue to be met.

Acquisition of lands within the approved acquisition boundary would continue as before, contingent upon the availability of funding and appropriate lands offered by willing sellers. Law enforcement would continue to be a shared responsibility between the Service, the State of Louisiana, and the West Feliciana Parish Sheriff's Office. The refuge would continue to be unstaffed, and funding for its operation would be restricted to funds generated by the sale of recreational use permits and occasional special project funding.

Alternative B: Active Resource Management (Proposed Alternative)

Under this alternative, the refuge's natural resources would be managed to enhance habitats for priority species, including waterfowl and other migratory birds, threatened and endangered species, species of concern, and resident fish and wildlife. Additionally, consistent wildlife surveys would be conducted, using established protocols to establish baseline habitat conditions, estimate wildlife population indices, determine responses to management actions, and contribute to larger scale biological assessments. Invasive exotic and nuisance species would be actively managed to minimize their impacts on refuge resources. The refuge forests would be actively managed to enhance wildlife habitat. Aquatic habitats on the refuge would be inventoried and assessed and, where feasible, access to them would be improved for recreational anglers.

The refuge cultural resources would continue to be protected as they have been in the past. In addition, the refuge would seek funding to survey and catalog cultural resources on the refuge. Protection of cultural resources would be integrated into refuge planning at all levels, and management actions would be reviewed in order to avoid or mitigate impacts to cultural resources.

Under the proposed alternative, public use would be more actively managed by refuge staff. Hunting and fishing would continue to be managed and made available with the active partnership of the Louisiana Department of Wildlife and Fisheries. More law enforcement personnel hours would be allocated by the Service for Cat Island NWR. New partnerships with organizations interested in promoting non-consumptive refuge use would be sought, and existing ones strengthened. In particular, environmental education opportunities would be enhanced by active participation of Service personnel with local schools and nonprofit organizations.

As under alternative A, acquisition of lands within the approved acquisition boundary would continue as before under the proposed alternative, contingent upon the availability of funding and appropriate lands offered by willing sellers. The refuge infrastructure would be maintained as in the past. The refuge would seek to improve access via the main refuge road and various trails. Efforts would be made to provide access to the northeast section of the refuge, and access via Cat Island Road would be pursued. The refuge would hire or assign staff to the refuge. Staff may include one or more of the following: A Refuge Manager, a Volunteer Coordinator, an Equipment Operator, a Law Enforcement Officer, a Forester, and a Biologist. Any or all of these may be shared positions among refuges in the Lower Mississippi River Refuge Complex.

Alternative C: Full Resource Management With Enhanced Public Use

Under this alternative, as with alternative B, the refuge's natural resources would be actively managed to enhance priority species habitats. A full inventory and monitoring program, including vegetation mapping and plant and wildlife surveys, would be instituted under a new Inventory and Monitoring Plan. Monitoring activities would be conducted by refuge staff, with the assistance of volunteers and partners. An aggressive approach would be taken to control invasive plants and animals, particularly feral hogs. Trapping and shooting by refuge staff and/or contractors would be systematically implemented with the goal of keeping populations at levels that do not pose a significant risk to refuge resources. Forests on the refuge would be assessed according to a stand-entry table, and appropriate silvicultural treatments would be applied to achieve the habitat conditions described by the Lower Mississippi Valley Joint Venture Forest Resource Conservation Working Group. Abandoned food plots along the main road would be evaluated for restoration to support nocturnal woodcock habitat. Refuge hydrology and aquatic habitats on the refuge would be fully assessed and feasible management actions to restore and enhance their ability to support a native recreational fishery and species of concern would be taken.

The refuge cultural resources would be protected as required by law and described under alternative B; however, increased public outreach and law enforcement presence would be expected to reduce risks of illegal disturbance of cultural artifacts. Funding for cultural resource surveys and catalog efforts would be sought, and cultural resources would be integrated into all refuge management activities, including forest management and public use programs. Historical information about the refuge lands would be compiled and displayed.

Public use under alternative C would be more strongly emphasized. While the refuge would continue to forge and develop partnerships, it would also develop independent capacity to manage public use. This capacity would include significant personnel resources focused on environmental education and interpretation, hunting and fishing, and promoting wildlife observation and photography. Dedicated law enforcement resources would be allocated to the refuge to focus on enhancing public safety and enforcing applicable laws and regulations. The refuge would, if feasible, maintain bank fishing areas adjacent to culverts along the main road and/or at the small pond.

Connections to educational institutions in the nearby Baton Rouge metropolitan area would be strengthened, and public outreach would emphasize the role of conservation in supporting urban quality of life. The refuge would investigate the possibility of hosting an annual public event.

The refuge infrastructure would be enhanced. Roads would be improved to reduce overall maintenance costs, particularly those that result from annual flooding. The refuge would evaluate the feasibility of building roadside boat launches for use during flooded conditions. The refuge would work with State of Louisiana and West Feliciana Parish to improve the access road to the refuge. New bridges would be constructed on roads and All-Terrain Vehicles/Utility Terrain Vehicle (ATV/UTV) trails where needed. ATV/UTV trails would be hardened where necessary and maintained annually. The refuge would evaluate the feasibility of upgrading the River Road ATV trail to support automobile traffic. The trail and boardwalk at the Big Cypress would be improved. Maintenance and infrastructure on the hiking trails would be improved. Abandoned camps along the Mississippi River would be removed, along with associated debris. The refuge would establish a presence in St. Francisville to house staff and serve as a focus for public outreach. The refuge would hire a core staff team to include a Refuge Manager, a Park Ranger/Volunteer Coordinator, a Law Enforcement Officer, a Forester or Biologist, and an Equipment Operator. One or more of these positions would be primarily assigned to Cat Island NWR, while others may be shared with other refuges in the complex. Full staffing level dedicated to the refuge is anticipated to be approximately 3-4 full-time equivalents under this alternative.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: October 27, 2014.
Mike Oetker,
Acting Regional Director.

Editorial Note: This document was received for publication by the Office of Federal Register on April 28, 2015.

[FR Doc. 2015-10298 Filed 4-30-15; 8:45 am]

BILLING CODE 4310-55-P